DEPARTMENT OF TRANSPORTATION

Office of the Secretary

[Docket No. DOT-OST-2023-0045]

Increasing Public Access to the Results of USDOT-Funded Transportation Research

Issue Date: March 23, 2023.

AGENCY: Office of the Secretary (OST), Department of Transportation (DOT).

ACTION: Notice; request for information.

SUMMARY: The United States Department of Transportation (DOT) invites public comment on issues or topics the DOT should consider as it updates the DOT Public Access Plan in response to new White House Office of Science and Technology Policy (OSTP) guidance.

DATES: Comments are requested by May 10, 2023. See the SUPPLEMENTARY INFORMATION section on “Public Participation,” below, for more information about written comments.

ADDRESSES: Written Comments: Comments should refer to the docket number above and be submitted by one of the following methods:

• Federal Rulemaking Portal: http://www.regulations.gov. Follow the online instructions for submitting comments.

• Email: public.access@dot.gov Include the docket number in the subject line of the message.

• Mail: Docket Management Facility, U.S. Department of Transportation, 1200 New Jersey Avenue SE, West Building, Ground Floor, Room W12-140, Washington, DC 20590-0001. Include docket number on the outside of the envelope.

• Hand Delivery: 1200 New Jersey Avenue SE, West Building Ground Floor, Room W12-140, Washington, DC, between 9 a.m. and 5 p.m. ET, Monday through Friday, except Federal Holidays. Include docket number on outside or first page of your submission.

Instructions: All submission received must include the agency name and the docket number. All comments received in the Federal Rulemaking Portal will be posted without change, including any personal information provided.

For detailed instructions on submitting comments and additional information on the rulemaking process, see the Public Participation heading of the SUPPLEMENTARY INFORMATION section of this document. Note that all comments received will be posted without change to http://www.regulations.gov, including any personal information provided.

Privacy Act: Except as provided below, all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477-78) or at https://www.transportation.gov/privacy.

Docket: For access to the docket to read background documents or comments received, go to http://www.regulations.gov or to the street address listed above. Follow the online instructions for accessing the dockets.

FOR FURTHER INFORMATION CONTACT: Mx. Leighton L Christiansen, Data Curator, National Transportation Library, Bureau of Transportation Statistics, Office of the Assistant Secretary for Research and Technology, by email at public.access@dot.gov or by phone at (202) 578-0185.

SUPPLEMENTARY INFORMATION:

Purpose

DOT seeks public input on the Increasing Public Access to the Results of USDOT Funded Transportation Research (DOT Public Access Plan).

Background

On February 22, 2013, the White House Office of Science and Technology Policy (OSTP) released a memorandum entitled “Increasing Access to the Results of Federally Funded Scientific Research” <<https://obamawhitehouse.archives.gov/sites/default/files/microsites/ostp/ostp_public_access_memo_2013.pdf>>, which called for all Executive Departments with greater than $100 million in yearly research and development expenditures to prepare a plan for improving the Public's access to the results of Federally funded research. On December 16, 2015, the DOT published its “Plan to Increase Public Access to the Results of Federally-Funded Scientific Research, Version 1.1” << https://doi.org/10.21949/1503646>> in response. The 2015 Public Access Plan codified and extended DOT's longstanding commitment to and practice of sharing DOT-supported research results. Further, the 2015 plan included making the digital datasets underlying the research results accessible by the public.

On August 25, 2022, the White House Office of Science and Technology Policy (OSTP) released a memorandum entitled “Ensuring Free, Immediate, and Equitable Access to Federally Funded Research” <<https://www.whitehouse.gov/wp-content/uploads/2022/08/08-2022-OSTP-Public-Access-Memo.pdf>> which establishes new guidance for improving public access to scholarly publications and data resulting from Federally supported research. This second OSTP memorandum calls on all Federal Departments and Agencies to prepare new or updated Public Access plans to ensure the Public's immediate access to the results of Federally funded research, which will further advance research transparency and advance U.S. economic competitiveness by raising awareness of new research discoveries and innovations.

In response, DOT will draft a version 2 of its Public Access Plan. The updated plan will:

• Affirm and enhances DOT's commitment to the Public's access to DOT-funded Scientific Research results, including digitally formatted scientific data;

• Affirm DOT's support for the reproducibility of Scientific Research results;

• Build on DOT's commitment to the Public's access to DOT-funded Scientific Research results by adding Source Code and Software, among the categories of accessible Research Outputs;

• Ensure the free and immediate availability, reliable preservation, and continuous access to DOT-funded research results, without embargo; and

• Enhance the usefulness of Scientific Research results to promote further innovation, increase American economic competitiveness, and advance the safety, reliability, sustainability, and equity of the national transportation system.

Specific Questions

DOT seeks information regarding the DOT Public Access Plan from all interested stakeholders, including, but not limited to: members of the public; principal investigators; research institutions; libraries; scholarly publishers; scientific societies; transportation agencies; transportation-focused groups, organizations, and associations; data scientists; data repositories; and others.

DOT is providing the following questions to prompt feedback and comments. DOT encourages public comment on any or all of these questions, and also seeks any other information commenters believe is relevant.

The questions to which DOT is interested in receiving responses are:

1. How best to improve access to textual research outputs. A high percentage of DOT funded research results are delivered via technical reports, research briefs, manuals, technology transfer documents, and other grey literature, designed for immediate sharing and rapid implementation. The current DOT Public Access Plans allows researchers to distribute these outputs through the website or repository of their choice, and requires a copy be submitted to the DOT National Transportation Library digital repository for long-term preservation and public access. DOT seeks information on how to improve and streamline this submission process to improve timeliness; and, to avoid reinforcing inequities to access and submission, while not creating new ones.

2. How best to improve accessibility of textual research outputs. DOT research grants and contracts require researchers to submit textual research outputs that are accessible to members of the public who use computer screen readers and other assistive technologies to access information, as consistent with Section 508 of the Rehabilitation Act of 1973 and the 2018 ITC Refresh, 36 CFR 1194. DOT seeks information on how to improve equity of access to research results.

3. How best to improve access to scholarly publications from DOT funded research. Section 3.a) of the 2022 OSTP memo calls on agencies to “update or develop new public access plans for ensuring, as appropriate and consistent with applicable law, that all peer-reviewed scholarly publications authored or co-authored by individuals or institutions resulting from federally funded research are made freely available and publicly accessible by default in agency-designated repositories without any embargo or delay after publication.” DOT seeks information on: i. How peer-reviewed scholarly publications should be made publicly accessible; ii. How to maximize equitable reach of public access to peer-reviewed scholarly publications, including by providing free online access to peer-reviewed scholarly publications in formats that allow for machine-readability and enabling broad accessibility through assistive devices; and, iii. The circumstances or prerequisites needed to make the publications freely and publicly available by default, including any use and re-use rights, and which restrictions, including attribution, may apply.

4. How best to improve access to datasets. The 2015 DOT Public Access Plan required all data underlying research conclusions be made publicly accessible, while protecting sensitive personal, business, and security information. Further, the Plan required research proposals include a data management plan (DMP) that, among other things, detailed where datasets would be preserved. However, DOT allowed researchers a choice of where to preserve the data: in an institutional or third-party domain-specific or generalist repository; with DOT; or, to self-distribute data when requested by the public. Further the 2015 DOT plan allowed researchers to include reasonable preservation costs in their research proposal. Going forward, the updated plan will continue to mandate research data must be shared while protecting sensitive information. However, in order meet the requirements of the 2022 OSTP memo and to better ensure long-term preservation of data of interest to DOT, the broader research community, and the public, researchers must preserve data in an institutional or third-party repository or with DOT, but self-distribution will no longer be allowed. DOT will continue to encourage researchers to plan for, and budget for, long-term data preservation as part of the research proposal process. DOT seeks information on how to best facilitate, support, and fund long-term data preservation and sharing.

5. How to implement evolving ethical frameworks to DOT-funded research. A percentage of transportation research involves the direct study of human subjects as they interact with the transportation infrastructure and operations. Transportation researchers have a long history of protecting human subjects under academic Institutional Review Board (IRB) and similar ethical guidelines. With the increase in volume of digital data collected about people and populations during research execution, some collectively in identified public settings and some oriented to observation of individuals requiring their knowledge and consent, the global movement towards open science and data sharing has developed new ethical frameworks. One example of these is the “CARE Principles for Indigenous Data Governance” << https://www.gida-global.org/care>>, created to allow Indigenous People to assert greater control over the use of Indigenous data and knowledge. DOT seeks information on how to ensure DOT supported research is engaged with and implements these evolving ethical frameworks.

6. How to best improve access to other types of research outputs. The 2015 DOT Public Access Plan focused on making text-based research outputs and digital datasets accessible to the public. But transportation research is not confined to only these two types of outputs. More and more research outputs include software, code, simulations, visualizations, and others yet to come. With the need to update our Public Access Plan, DOT is interested in having supported researchers share all research outputs with the public, where practicable and within legal parameters. DOT seeks information on the projected types of research outputs, the level of effort and expense in sharing them, as well as ethical and legal concerns with sharing other types of research outputs.

7. How to implement persistent identifiers (PIDs) for people; research documents and outputs; and, research entities. The 2015 DOT Public Access Plan called for persistent identification of research outputs and researchers. The 2022 OSTP memo, section 4.b) requires all federally funded researchers to have a personal persistent identifier as defined in NSPM-33 Implementation Guidance << https://www.whitehouse.gov/wp-content/uploads/2022/01/010422-NSPM-33-Implementation-Guidance.pdf>> section 2. Further, the OSTP memo section 4.c) requires persistent identification of research and development awards, such as research grants and contracts. Finally, DOT is interested in being able to uniquely and persistently identify research entities, to enable analysis of outputs and research relationships. DOT seeks suggestions on improving the use of persistent identifiers and their metadata, including adoption use cases from institutions.

8. How to improve research project lifecycle management. The 2015 DOT Public Access Plan commits DOT to sharing research project information through a publicly accessible database. DOT seeks suggestions on improving our research project management tools and practices, and welcomes institutional use case examples.

Public Participation

How do I prepare and submit comments?

Your comments must be written in English. To ensure that your comments are filed correctly in the docket, please include the docket number of this document in your comments.

Please submit one copy (two copies if submitting by mail or hand delivery) of your comments, including the attachments, to the docket following the instructions given above under ADDRESSES. Please note, if you are submitting comments electronically as a PDF (Adobe) file, we ask that the documents submitted be scanned using an Optical Character Recognition (OCR) process, and without password protection, thus allowing the agency to open, search, and copy certain portions of your submissions.

How do I submit confidential business information?

Any submissions containing Confidential Information must be delivered to OST in the following manner:

• Submitted in a sealed envelope marked “confidential treatment requested”;

• Document(s) or information that the submitter would like withheld should be marked “PROPIN”; accompanied by an index listing the document(s) or information that the submitter would like the Departments to withhold. The index should include information such as numbers used to identify the relevant document(s) or information, document title and description, and relevant page numbers and/or section numbers within a document; and

• Submitted with a statement explaining the submitter's grounds for objecting to disclosure of the information to the public.

DOT will treat such marked submissions as confidential under the FOIA and will not include them in the public docket. DOT also requests that submitters of Confidential Information include a non-confidential version (either redacted or summarized) of those confidential submissions in the public docket. In the event that the submitter cannot provide a non-confidential version of its submission, DOT requests that the submitter post a notice in the docket stating that it has provided DOT with Confidential Information. Should a submitter fail to docket either a non-confidential version of its submission or to post a notice that Confidential Information has been provided, we will note the receipt of the submission on the docket, with the submitter's organization or name (to the degree permitted by law) and the date of submission.

Will the Agency consider late comments?

OST will consider all comments received before the close of business on the comment closing date indicated above under DATES. To the extent possible, the agency will also consider comments received after that date.

How can I read the comments submitted by other people?

You may read the comments received at the address given above under written comments. The hours of the docket are indicated above in the same location. You may also see the comments on the internet, identified by the docket number at the heading of this notice, at http://www.regulations.gov.

Issued in Washington, DC, on March 23, 2023, under authority delegated at 49 CFR 1.25a.
Robert C. Hampshire,
Deputy Assistant Secretary for Research and Technology.

[FR Doc. 2023-06373 Filed 3-27-23; 8:45 am]

BILLING CODE 4910-9X-P